ENVIRONMENTAL PROTECTION AGENCY

[ER-FRL-6678-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060069, ERP No. D-FHW-K40260-CA, Interstate 5/Cosumnes River Boulevard Interchange Project, Extension of Cosumnes River Boulevard from Franklin Boulevard to Freeport Boulevard with an Interchange at Interstate 5, South of the Pocket/Meadowview Road Interchange and North of the Laguna Boulevard Interchange, City of Sacramento, Sacramento County, CA.

Summary: EPA does not object to the proposed project. Rating LO.

EIS No. 20060162, ERP No. D-FHW-G40189-00, TIER 1—DEIS Trans-Texas Corridor—35 (TTC-35) System, Improvement to International, Interstate and Intrastate Movement of Goods and People, Oklahoma-Mexico/Gulf Coast Element.

Summary: EPA expressed environmental concerns about air quality and water quality impacts. Rating EC2.

EIS No. 20060192, ERP No. D-AFS-L65511-ID, Myrtle Creek Healthy Forest Restoration Act Project, Proposes Aquatic and Vegetation Improvement Treatments, Panhandle National Forests, Bonners Ferry Ranger District, City of Bonners Ferry, Boundary County, ID.

Summary: EPA does not object to proposed action. Rating LO.

EIS No. 20060200, ERP No. D-COE-F39140-00, PROGRAMMATIC—Ohio River Mainstem System Study, System Investment Plan (SIP) for Maintaining Safe, Environmentally Sustainable and Reliable Navigation on the Ohio River, IL, IN, OH, KY, PA and WV.

Summary: EPA expressed environmental concerns about how implementation of the System Investment Plan would influence the ecological future of the Ohio River System, and requested additional information regarding adaptive management, institutional arrangements, environmental justice, cumulative impact analysis, mitigation, and water quality. Rating EC2.

EIS No. 20060238, ERP No. D-NRS-H34031-00, West Tarkio Creek Watershed Plan, Construction of a Multiple-Purpose Structure for Rural Water Supply, Recreational Opportunities and Agricultural Pollution Control, Page, Montgomery and Fremont Counties, IA and Atchison County, MO.

Summary: EPA does not object to the proposed project, but recommended that the Final EIS provide additional clarification on several issues, including the range of reasonable alternatives and cumulative impacts. Rating LO.

EIS No. 20060266, ERP No. D-FTA-G40190-TX, North Corridor Fixed Guideway Project, Propose Transit Improvements from University of Houston (UH)-Downtown Station to Northline Mall, Harris County, TX.

Summary: EPA does not object to the proposed action. Rating LO.

EIS No. 20060007, ERP No. DS-COE-B32009-MA, Boston Harbor Inner Harbor Maintenance Dredging Project, Updated Information, Boston Harbor, Mystic River and Chelsea River, MA.

Summary: EPA requested additional information concerning impacts to winter flounder spawning and anadromous fish migration and measures that could be taken to avoid those impacts. EPA also made suggestions concerning water quality monitoring during project implementation and offered to participate in a workgroup to develop an appropriately scaled sampling effort. Rating EC2.

Final EISs

EIS No. 20060226, ERP No. F-FHW-K40249-CA, Lincoln Bypass Construction, South of Industrial Boulevard to North of Riosa Road, Funding and US Army COE Section 404 Permit, Issuance, Placer County, CA.

Summary: EPA continues to have environmental concerns about the proposed project because of potential impacts to aquatic resources, recommends that FHWA clarify the full extent.

EIS No. 20060244, ERP No. F-IBR-K65285-CA, San Luis Drainage Feature Re-evaluation Project, Provide Agricultural Drainage Service to the San Luis Unit, Several Counties, CA.

Summary: EPA was supportive of the selection of the Drainage Impaired Land Retirement Alternative, but expressed environmental concerns about treatment methods to remove selenium from drainage water and potential impacts to air quality. EPA requested additional analysis and monitoring commitments prior to implementation of any alternative and expressed continued objections if an out of valley alternative.

EIS No. 20060259, ERP No. F-BLM-J02042-UT, Uinta Basin Natural Gas Project, Proposal to Produce and Transport Natural Gas in the Atchee Wash Oil and Gas Production Region, Resource Development Group, Right-of-Way Grant, U.S. COE Section 404 Permit and Endangered Species Act Permit, Uintah County, UT.

Summary: No formal comment letter was sent to the preparing agency.

EIS No. 20060263, ERP No. F-BIA-F65058-MI, Nottawaseppi Huron Band of Potawatomi Indians (the Tribe), Proposes Fee-to-Trust Transfer and Casino Project, Calhoun County, MI.

Summary: EPA's previous concerns have been resolved; therefore, EPA does not object to the proposed action.

EIS No. 20060332, ERP No. FC-NOA-E86002-00, Amendment 26 to the Gulf of Mexico Reef Fish Fishery Management Plan, Proposed Individual Fishing Quota (IFQ) Program to Reduce Overcapacity in the Commercial Red Snapper Fishery.

Summary: EPA does not object to the proposed action.

EIS No. 20060228, ERP No. FS-COE-B32009-MA, Boston Harbor Inner Harbor Maintenance Dredging Project, Updated Information, Boston Harbor, Mystic River and Chelsea River, MA.

Summary: EPA does not object to the proposed project.

Dated: August 22, 2006.
Robert W. Hargrove,
Director, NEPA Compliance Division, Office of Federal Activities.

[FR Doc. E6-14150 Filed 8-24-06; 8:45 am]

BILLING CODE 6560-50-P